DEPARTMENT OF STATE

[Delegation of Authority No.: 403]

Delegation by the Secretary of State to the Assistant Secretary for South and Central Asian Affairs U.S. Participation in “Astana Expo 2017”

By virtue of the authority vested in the Secretary of State, including Section 1 of the State Department Basic Authorities Act, as amended (22 U.S.C. 2651a); the transfer provisions of the Foreign Affairs Reform and Restructuring Act of 1998, codified in 22 U.S.C. 6532; and pursuant to Executive Order 12048, as amended, I hereby delegate to the Assistant Secretary of State for South and Central Asian Affairs, to the extent authorized by law, the authority of the President under Section 102(a)(3) of the Mutual Educational and Cultural Exchange Act of 1961, Public Law 87-286, to provide for U.S. participation in “Astana Expo 2017.”

Any act, executive order, regulation, or procedure subject to, or affected by, this delegation shall be deemed to be such act, executive order, regulation, or procedure as amended from time to time.

Notwithstanding this delegation of authority, the Secretary, the Deputy Secretary, the Deputy Secretary for Management and Resources, the Under Secretary for Political Affairs, and the Under Secretary for Public Diplomacy and Public Affairs may at any time exercise any authority or function delegated by this delegation of authority.

This delegation of authority does not rescind, supersede, or in any way affect the validity of any other delegation of authority. This includes Delegation of Authority 234, dated October 1, 1999, which remains in effect.

This delegation of authority shall be published in the Federal Register.

Dated: August 29, 2016.
John F. Kerry,
Secretary of State.

DEPARTMENT OF STATE

Delegation of Authority No. __

Delegation by the Secretary of State to the Assistant Secretary for South and Central Asian Affairs U.S. Participation in “Astana Expo 2017”

By virtue of the authority vested in the Secretary of State, including Section 1 of the State Department Basic Authorities Act, as amended (22 U.S.C. § 2651a); the transfer provisions of the Foreign Affairs Reform and Restructuring Act of 1998, codified in 22 U.S.C. § 6532; and pursuant to Executive Order 12048, as amended, I hereby delegate to the Assistant Secretary of State for South and Central Asian Affairs, to the extent authorized by law, the authority of the President under Section 102(a)(3) of the Mutual Educational and Cultural Exchange Act of 1961, Public Law 87-286, to provide for U.S. participation in “Astana Expo 2017.”

Any act, executive order, regulation, or procedure subject to, or affected by, this delegation shall be deemed to be such act, executive order, regulation, or procedure as amended from time to time.

Notwithstanding this delegation of authority, the Secretary, the Deputy Secretary, the Deputy Secretary for Management and Resources, the Under Secretary for Political Affairs, and the Under Secretary for Public Diplomacy and Public Affairs may at any time exercise any authority or function delegated by this delegation of authority.

This delegation of authority does not rescind, supersede, or in any way affect the validity of any other delegation of authority. This includes Delegation of Authority 234, dated October 1, 1999, which remains in effect.

This delegation of authority shall be published in the Federal Register.

Dated: August 29, 2016.

John F. Kerry,

Secretary of State.

[FR Doc. 2016-23286 Filed 9-26-16; 8:45 am]

BILLING CODE 4710-46-P